DEPARTMENT OF ENERGY

Federal Energy Regulatory Commission

[Docket No. AD19-12-000]

Security Investments for Energy Infrastructure Technical Conference; Notice of Technical Conference

Take notice that the Federal Energy Regulatory Commission (Commission) and the United States Department of Energy (DOE) will co-host a Security Investments for Energy Infrastructure Technical Conference (conference) on Thursday, March 28, 2019, from 10:00 a.m. to 4:00 p.m. This Commissioner- and DOE senior official-led conference will be held in the Commission Meeting Room at the Federal Energy Regulatory Commission, 888 First Street NE, Washington, DC 20426. The purpose of the conference is to discuss current cyber and physical security practices used to protect energy infrastructure and will explore how federal and state authorities can provide incentives and cost recovery for security investments in energy infrastructure, particularly the electric and natural gas sectors.

The conference will address two high-level topics. The first topic will include discussion of types of current and emerging cyber and physical security threats. Specifically, the conference will explore factors that the private sector considers when evaluating energy infrastructure security threats and vulnerabilities, as well as the availability of resources and challenges associated with evaluating these issues. In addition, the conference will discuss cyber and physical security best practices and mitigation strategies.

The second topic will center on how federal and state authorities can facilitate investments to improve the cyber and physical security of energy infrastructure. The conference will concentrate on federal and state authorities' current cost recovery policies. In addition, this panel will also look at how security investments are presently incentivized and what type of incentives would be most effective to facilitate security investment (e.g., accelerated depreciation, adders to return on equity, etc.).

Further details of this conference will be provided in a supplemental notice.

The conference will be open and free to the public; however, interested attendees are encouraged to preregister online at: https://www.ferc.gov/whats-new/registration/03-28-19-form.asp.

Information regarding the conference will be posted on the Calendar of Events on the Commission's website, http://www.ferc.gov, prior to the event. The conference will also be webcast and transcribed. Anyone with internet access who desires to listen to this event can do so by navigating to the Calendar of Events at http://www.ferc.gov and locating this event in the Calendar. The event will contain a link to the webcast. The Capitol Connection provides technical support for webcasts and offers the option of listening to the meeting via phone-bridge for a fee. If you have any questions, visit http://www.CapitolConnection.org or call (703) 993-3100. Transcripts of the technical conference will be available for a fee from Ace-Federal Reporters, Inc. at (202) 347-3700.

Commission conferences are accessible under section 508 of the Rehabilitation Act of 1973. For accessibility accommodations, please send an email to accessibility@ferc.gov or call toll free 1 (866) 208-3372 (voice) or (202) 502-8659 (TTY), or send a fax to (202) 208-2106 with the required accommodations.

For more information about this technical conference, please contact Carolyn Templeton by phone at (202) 502-8785 or by email at carolyn.templeton@ferc.gov. For information related to logistics, please contact Sarah McKinley at (202) 502-8368 or by email at sarah.mckinley@ferc.gov.

Dated: February 4, 2019.
Kimberly D. Bose,
Secretary.

[FR Doc. 2019-02013 Filed 2-11-19; 8:45 am]

BILLING CODE 6717-01-P